DEPARTMENT OF COMMERCE

National Oceanic and Atmospheric Administration

Agency Information Collection Activities; Submission to the Office of Management and Budget (OMB) for Review and Approval; Comment Request; Alaska Pacific Halibut Fisheries: Charter

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 27, 2023.

ADDRESSES: Interested persons are invited to submit written comments to Adrienne Thomas, NOAA PRA Officer, at NOAA.PRA@noaa.gov. Please reference OMB Control Number 0648-0575 in the subject line of your comments. Do not submit Confidential Business Information or otherwise sensitive or protected information.

FOR FURTHER INFORMATION CONTACT: Requests for additional information or specific questions related to collection activities should be directed to Gabrielle Aberle, 709 W 9th Street, Juneau, AK 99801, 907-586-7356, gabrielle.aberle@noaa.gov.

SUPPLEMENTARY INFORMATION:

I. Abstract

The National Marine Fisheries Service (NMFS), Alaska Region, is requesting extension of a currently approved information collection for the Pacific halibut charter fishery off Alaska.

Management of and regulations for Pacific halibut (Hippoglossus stenolepis) in Alaska are developed on the international, Federal, and state levels by the International Pacific Halibut Commission (IPHC), the North Pacific Fishery Management Council, the NMFS Alaska Region, and the State of Alaska Department of Fish and Game (ADF&G). The IPHC and NMFS manage fishing for Pacific halibut through regulations established under authority of the Convention between the United States Halibut Fishery of the Northern Pacific Ocean and Bering Sea, the Northern Pacific Halibut Act of 1982 (16 U.S.C. 773), and section 303(b) of the Magnuson-Stevens Fishery Conservation and Management Act (16 U.S.C. 1801 et seq.).

NMFS manages the charter halibut fishery off Alaska under the Charter Halibut Limited Access Program (CHLAP; 75 FR 554, January 5, 2010) and the Pacific Halibut Catch Sharing Plan (CSP; 78 FR 75844, December 12, 2013). This information collection is necessary for NMFS to manage and administer the charter halibut fishery under the CHLAP and the CSP. Regulations that implement this information collection are at 50 CFR 300 subpart E and 50 CFR 679.5(l)(7). Information on the CHLAP and the CSP is on the NMFS Alaska Region website at https://www.fisheries.noaa.gov/alaska/resources-fishing/sport-halibut-fishing-alaska.

The CHLAP established new Federal Charter Halibut Permits (CHPs) for operators in the sport charter halibut fishery in IPHC regulatory Areas 2C (Southeast Alaska) and 3A (Central Gulf of Alaska). All charter halibut vessel operators in Areas 2C and 3A with clients on board must have a valid CHP on board during every charter vessel fishing trip. As the period to obtain a CHP, other than a military CHP or community CHP, ended in 2010, CHPs may now only be obtained through transfer. This information collection contains the applications used to annually register CHPs, to apply for new military CHPs, and to transfer CHPs. The application for a community CHP is approved under OMB Control Number 0648-0665. Information collected by these applications includes permit holder information or applicant information, and depending on the form, may include CHP identification, CHP ownership information and affiliation, a survey question on the use of the CHP, and transaction information for transfer of a CHP.

The CSP authorizes annual transfers of commercial halibut individual fishing quota (IFQ) as guided angler fish (GAF) to qualified CHP holders for harvest by charter vessel anglers in Area 2C or 3A. GAF enables CHP holders to lease a limited amount of IFQ from commercial quota share holders to allow charter vessel anglers to harvest halibut in addition to, or instead of, the halibut harvested under the daily bag limit for charter anglers.

This information collection includes the application used to transfer Area 2C or 3A commercial halibut IFQ to a CHP holder for use as GAF or for the CHP holder to return unused GAF to the IFQ permit holder from which it was obtained. Information collected by this application includes permit holder information, IFQ permit information, CHP information, GAF permit information, and transaction information. NMFS, on approving the transfer of IFQ to GAF, issues a GAF permit, which authorizes the holder to allow charter vessel anglers to retain GAF halibut caught in the IPHC regulatory area specified on the permit.

This information collection also includes the GAF landing report and the GAF permit log. The GAF landing report is submitted by GAF permit holders and collects information on each GAF halibut retained by an angler on a charter vessel fishing trip in Area 2C or 3A. The GAF permit log is printed on the back of each GAF permit and is used by the permit holder to record the GAF landing report confirmation number and information on GAF halibut after a trip in which GAF halibut were retained.

This information collection includes the logbook reporting requirements for the charter halibut fishery. The charter halibut sector in Areas 2C and 3A is managed to charter catch limits established under the CSP. Charter operators are required to record all halibut caught and kept by charter vessel anglers in the ADF&G Saltwater Charter Logbook. Logbook reporting is the basis for estimating annual charter harvests of halibut relative to the charter catch limits.

II. Method of Collection

The information is collected by mail, fax, and electronically. The forms are available on the NMFS Alaska Region website at https://www.fisheries.noaa.gov/permit/alaska-sport-charter-halibut-applications-and-reporting-forms.

III. Data

OMB Control Number: 0648-0575.

Form Number(s): None.

Type of Review: Regular submission (extension of a current information collection).

Affected Public: Business or other for profit organizations; Individuals or households.

Estimated Number of Respondents: 656.

Estimated Time per Response: Application for Annual Registration of CHPs: 15 minutes; Application for Military CHP: 30 minutes; Application for Transfer of CHP: 2 hours; Application for Transfer (Lease) Between IFQ and GAF: 1.5 hours; GAF Landing Report: 5 minutes; GAF Permit Log: 2 minutes; ADF&G Saltwater Sport Fishing Charter Trip Logbook: 4 minutes; and Appeals: 4 hours.

Estimated Total Annual Burden Hours: 3,494 hours.

Estimated Total Annual Cost to Public: $84,090 in recordkeeping and reporting costs.

Respondent's Obligation: Required to Obtain or Retain Benefits; Mandatory.

Legal Authority: The Northern Pacific Halibut Act of 1982 (16 U.S.C. 773c); Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-21179 Filed 9-27-23; 8:45 am]

BILLING CODE 3510-22-P